DEPARTMENT OF COMMERCE

Foreign-Trade Zones Board

[Order No. 1925]

Approval for Restricted Manufacturing (Production) Authority; Foreign-Trade Zone 109; North American Tapes, LLC (Textile Athletic Tape); Watertown, New York

Pursuant to its authority under the Foreign-Trade Zones Act of June 18, 1934, as amended (19 U.S.C. 81a-81u), the Foreign-Trade Zones Board (the Board) adopts the following Order:

Whereas, the Jefferson County Industrial Development Agency, grantee of Foreign-Trade Zone 109, has requested manufacturing (production) authority on behalf of North American Tapes, LLC (NAT), within FTZ 109 in Watertown, New York (FTZ Docket 48-2011, filed 7-15-2011; amended 3-6-2012);

Whereas, notice inviting public comment has been given in the Federal Register (76 FR 43259-43260, 7-20-2011; 77 FR 13263-13264, 3-6-2012; 77 FR 25400, 4-30-2012) and the application has been processed pursuant to the FTZ Act and the Board's regulations; and,

Whereas, the Board adopts the findings and recommendations of the examiner's report, and finds that the requirements of the FTZ Act and the Board's regulations would be satisfied, and that the proposal would be in the public interest if approval were subject to restriction;

Now, therefore, the Board hereby orders:

The application for manufacturing (production) authority under zone procedures within FTZ 109 on behalf of NAT, as described in the application and Federal Register notices, is approved, subject to the FTZ Act and the Board's regulations, including Section 400.13, and further subject to the following restrictions and conditions:

1. All foreign status fabrics admitted to the zone for NAT's manufacturing (production) activity must be re-exported (entry for U.S. consumption is not authorized).

2. The manufacturing (production) authority for NAT shall remain in effect for an initial period of five years from the date of approval.

Signed at Washington, DC, this 9th day of December 2013.
Paul Piquado,
Assistant Secretary of Commerce for Enforcement and Compliance, Alternate Chairman, Foreign-Trade Zones Board.

[FR Doc. 2013-30110 Filed 12-17-13; 8:45 am]

BILLING CODE 3510-DS-P